DEPARTMENT OF COMMERCE

International Trade Administration

[A-533-809]

Certain Stainless Steel Flanges From India

AGENCY: Import Administration, International Trade Administration, Department of Commerce.

ACTION: Notice of initiation of new shipper review.

SUMMARY: The Department of Commerce has received a request for a new shipper review of the antidumping duty order on certain forged stainless steel flanges (flanges) from India issued on February 9, 1994 (59 FR 5994). In accordance with our regulations, we are initiating a new shipper review covering Metal Forgings Private Limited/Metal Rings and Bearing Races Limited (Metal Forgings).

EFFECTIVE DATE: November 29, 2001.

FOR FURTHER INFORMATION CONTACT: Thomas Killiam or Michael Heaney, AD/CVD Enforcement Group III, Import Administration, International Trade Administration, U.S. Department of Commerce, 14th Street and Constitution Avenue, NW, Washington, DC 20230, telephone: (202) 482-5222 or (202) 482-4475, respectively.

SUPPLEMENTARY INFORMATION:

Applicable Statute and Regulations

Unless otherwise indicated, all citations to the Tariff Act of 1930, as amended (the Tariff Act), are references to the provisions effective January 1, 1995, the effective date of the amendments made to the Tariff Act by the Uruguay Round Agreements Act. In addition, unless otherwise indicated, all references to the Department's regulations are to 19 CFR part 351 (2001).

Background

The Department received a timely request, in accordance with section 751(a)(2)(B) of the Tariff Act and 19 CFR 351.214(b) of the Department's regulations, for a new shipper review of the antidumping duty order on flanges from India, which has a February anniversary date. (See Antidumping Duty Order and Amendment to Final Determination of Sales at Less Than Fair Value, 59 FR 5994 (February 9, 1994). See also letter to the Secretary of Commerce from law firm of Miller & Chevalier, August 31, 2001, requesting a new shipper review.

Initiation of Review

Pursuant to 19 CFR 351.214(b), Metal Forgings certified in its August 31, 2001 submission that it did not export subject merchandise to the United States during the period of the investigation (POI) (July 1, 1992 through December 31, 1992), and that it was not affiliated with any exporter or producer of the subject merchandise to the United States during the POI. Metal Forgings submitted documentation establishing the date on which it first shipped the subject merchandise for export to the United States, the volume shipped, and the date of the first sale to an unaffiliated customer in the United States.

In accordance with section 751(a)(2)(B) of the Tariff Act and § 351.214(d) of the Department's regulations, we are initiating a new shipper review of the antidumping duty order on flanges from India. This review covers the period January 1, 2001 through July 31, 2001. We have defined the period of review in order to include the reported dates of sale and shipment and the estimated date of entry. We intend to issue the final results of the review no later than 180 days from the date of publication of this notice.

In accordance with 19 CFR 351.214(e), effective on the date of publication of this notice, we will instruct the U.S. Customs Service to allow, at the option of the importer, the posting of a bond or security in lieu of a cash deposit for each entry of the subject merchandise exported by Metal Forgings, until the completion of the review.

Interested parties may submit applications for disclosure under administrative protective order in accordance with 19 CFR 351.305(b).

This initiation and this notice are in accordance with section 751(a) of the Tariff Act (19 U.S.C. 1675(a)) and § 351.214 of the Department's regulations.

Dated: November 23, 2001.
Joseph A. Spetrini,
Deputy Assistant Secretary for Import Administration, Group III.

[FR Doc. 01-29672 Filed 11-28-01; 8:45 am]

BILLING CODE 3510-DS-P